CORPORATION FOR NATIONAL AND COMMUNITY SERVICE

Agency Information Collection Activities; Submission to the Office of Management and Budget for Review and Approval; Comment Request; AmeriCorps Application Questions

AGENCY: Corporation for National and Community Service.

ACTION: Notice of information collection; request for comment.

SUMMARY: The Corporation for National and Community Service, operating as AmeriCorps, has submitted a public information collection request (ICR) entitled AmeriCorps Application Questions for review and approval in accordance with the Paperwork Reduction Act.

DATES: Written comments must be submitted to the individual and office listed in the ADDRESSES section by November 29, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Sharron Tendai, at 202-606-3904 or by email to stendai@cns.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 31, 2023 at 49453-49454. This comment period ended September 29, 2023. No public comments were received from this Notice. On September 12, 2023, AmeriCorps led a focus group with 9 individuals to discuss the burden of the AmeriCorps Application Questions. The participants in the focus group were a mix of VISTA sponsors, and grantees from AmeriCorps Seniors, AmeriCorps State and National, and Volunteer Initiatives. Participants agreed that AmeriCorps requests a lot of data in its application but does not communicate its intentions for the information collected. They further agreed that AmeriCorps should more clearly communicate to those who complete this information collection why it requires the level of data collection it asks for. While the application lists a burden of 6 hours to complete the application questions, participants agreed the actual time spent completing the application is significantly longer. For this reason, we have extended the time burden to 40 hours per applicant.The application instructions are often circular, referring back to one another, and applicants have to frequently refer back to them (NOFO, guidance, application instructions). Participants told AmeriCorps that navigating these materials in order to complete this information collection is extremely burdensome and frustrating. Their additional suggestions for minimizing the burden to the public include: replacing eGrants, providing a word limit per section rather than a page limit, and providing clear checklists of “must-do” items and criteria to help guide applicants through the process in a more concrete way. While many of these changes are not currently possible in eGrants, these comments will help inform improvements to the forthcoming grants management system.

Title of Collection: AmeriCorps Application Questions.

OMB Control Number: 3045-0187. Type of Review: Renewal.

Respondents/Affected Public: Organizations, State, Local or Tribal Governments.

Total Estimated Number of Annual Responses: 13,200.

Total Estimated Number of Annual Burden Hours: 528,000.

Abstract: The generic application questions are used by applicants for funding through AmeriCorps competitions. The application is completed electronically using the Agency's web-based grants management system or submitted via email. AmeriCorps seeks to renew the current information collection without revisions. The information collection will otherwise be used in the same manner as the existing application. AmeriCorps also seeks to continue using the current application until the revised application is approved by OMB. The current application is due to expire on October 30, 2023.

Danielle Melfi,
Chief Program Officer.

[FR Doc. 2023-23808 Filed 10-27-23; 8:45 am]

BILLING CODE 6050-28-P